DEPARTMENT OF ENERGY

Research and Development Strategies for Compressed & Cryo-Compressed Hydrogen Storage Workshops

AGENCY: Fuel Cell Technologies Program, Office of Energy Efficiency and Renewable Energy, Department of Energy.

ACTION: Notice of meeting.

SUMMARY: The Systems Integration group of the National Renewable Energy Laboratory, in conjunction with the Hydrogen Storage team of the EERE Fuel Cell Technologies Program, will be hosting two days of workshops on compressed and cryo-compressed hydrogen storage in the Washington, DC metro area.

DATES: The workshops will be held on Monday, February 14, 2011 and Tuesday, February 15, 2011 from 8:30 a.m. to approximately 5 p.m. each day.

ADDRESSES: Crystal Gateway Marriott, 1700 Jefferson Davis Highway, Arlington, Virginia 22202. Any individual who wishes to attend the workshop must send reservation notice via e-mail to CH2WorkShop@ee.doe.gov by close of business Monday, January 31, 2011.

FOR FURTHER INFORMATION CONTACT: Mr. Josh Gesick, Senior Systems Engineer, National Renewable Energy Laboratory, MS RSF301, 1617 Cole Boulevard, Golden, CO 80401; Dr. Ned Stetson, Technology Development Manager, Fuel Cell Technology Program, EE-2H, 1000 Independence Ave., SE., Washington, DC 20585, (202) 586-9995. More information on DOE's hydrogen storage program, targets and current research information can be found at http://www1.eere.energy.gov/hydrogenandfuelcells/storage/.

SUPPLEMENTARY INFORMATION: These workshops are open to the public, however space is limited and RSVP is required (see ADDRESSES above). The format of the workshop is intended to be interactive with short introductory presentations followed by extensive discussions among the attendees. Numerous breakout sessions are scheduled for both days. The detailed agenda is available online at http://www1.eere.energy.gov/hydrogenandfuelcells/wkshp_compressedcryo.html.

The purpose of the compressed hydrogen workshop on Monday February 14th will be to identify strategies to lower the cost of high pressure hydrogen storage systems. Discussion will focus on determining research strategies and technical pathways to lower costs while maintaining performance and safety. Introductory presentations include automotive and manufacturing perspectives, and overviews of carbon fiber development and recent costs analyses. The cryo-compressed hydrogen workshop on Tuesday February 15th will focus on identifying the issues associated with performance and reliability of cryogenic hydrogen storage systems, including cryo-compressed and cryo-adsorption systems. The objective is to determine and prioritize the research needs and technical pathways for each approach while highlighting those aspects which should be common to both system types as well as identifying the unique requirements and issues that should be addressed. Introductory presentations will include perspectives from automotive and other potential users of the technology and overviews on hydrogen sorption technology and recent analyses and progress on cryo-compressed and cryo-sorption technology.

Dated: January 11, 2011.
Sunita Satyapal,
Program Manager, Fuel Cell Technologies.

[FR Doc. 2011-1499 Filed 1-24-11; 8:45 am]

BILLING CODE 6450-01-P